DEPARTMENT OF HEALTH AND HUMAN SERVICES

Health Resources and Services Administration

Availability of Funds Announced in the HRSA Preview; Correction

AGENCY: Health Resources and Services Administration.

ACTION: Notice; correction.

SUMMARY: In the Federal Register issue of Friday, July 7, 2000, make the following corrections:

Correction

In the Federal Register notice of Friday, July 7, 2000, in Part III “Availability of Funds Announced in the HRSA Preview” of FR Doc. 00-16874:

(1) on page 42223, the grant category beginning in the third column under the heading “Healthy Start Initiative Eliminating Disparities in Perinatal Health (CFDA #93.926E),” is amended to: (a) further restrict eligibility to applicants who will establish community-based consortia of individuals and organizations (including State Title V agencies, consumers of project services, public health departments, hospitals, community health centers, and other significant sources of health care services) that are appropriate for participation. Eligibility remains open to any public or private entity, including an Indian tribe or tribal organization (as defined at 25 U.S.C. 450b); (b) restrict project areas to those which target a geographic area with high annual rates of infant mortality within a particular State, i.e., no statewide programs will be funded and (c) require that grantees coordinate their services and activities with State Title V agencies. Funding priorities and/or preferences will be given only to applicants who were recipients of Healthy Start community-based grants awarded prior to July 2000 (details will be provided in the application guidance). There will be no special considerations. The estimated amount of this competition will be up to $66,840,000. It is anticipated that 67 awards will be made.

(2) on page 42224, the grant category beginning in the first column under the heading “Interconceptional Care for High-Risk Women and Their Infants (CFDA #93.926K)”, is amended to: (a) further restrict eligibility to applicants who will establish community-based consortia of individuals and organizations (including State Title V agencies, consumers of project services, public health departments, hospitals, community health centers, and other significant sources of health care services) that are appropriate for participation. Eligibility remains open to any public or private entity, including an Indian tribe or tribal organization (as defined at 25 U.S.C. 450b); (b) restrict project areas to those which target a geographic area with high annual rates of infant mortality within a particular State, i.e., no statewide programs will be funded and (c) require that grantees coordinate their services and activities with State Title V agencies. Funding priorities and/or preferences will be given only to applicants who were recipients of Healthy Start community-based grants awarded prior to July 2000 (details will be provided in the application guidance). There will be no special considerations.

(3) on page 42224, the grant category beginning in the second column under the heading “Improving Women's Health Through Screening and Intervention for Depression During and Around the Time of Pregnancy (CFDA #93.926L)” is amended to: (a) further restrict eligibility to applicants who will establish community-based consortia of individuals and organizations (including State Title V agencies, consumers of project services, public health departments, hospitals, community health centers, and other significant sources of health care services) that are appropriate for participation. Eligibility remains open to any public or private entity, including an Indian tribe or tribal organization (as defined at 25 U.S.C. 450b); (b) restrict project areas to those which target a geographic area with high annual rates of infant mortality within a particular State, i.e., no statewide programs will be funded and (c) require that grantees coordinate their services and activities with State Title V agencies. Funding priorities and/or preferences will be given only to applicants who were recipients of Healthy Start community-based grants awarded prior to July 2000 (details will be provided in the application guidance). There will be no special considerations.

(4) on page 42225, the grant category beginning in the second column under the heading “Healthy Start Initiative Eliminating Disparities in Perinatal Health Border Health (CFDA #93.926N)”, is amended to: (a) further restrict eligibility to applicants who will establish community-based consortia of individuals and organizations (including State Title V agencies, consumers of project services, public health departments, hospitals, community health centers, and other significant sources of health care services) that are appropriate for participation. Eligibility remains open to any public or private entity, including an Indian tribe or tribal organization (as defined at 25 U.S.C. 450b)); (b) restrict project areas to those which target a geographic area with high annual rates of infant mortality within 62 miles from the Mexican border in a particular State, i.e., no statewide programs will be funded; and (c) require that grantees coordinate their services and activities with State Title V agencies. Funding priorities and/or preferences will be given only to applicants who were recipients of Healthy Start community-based grants awarded prior to July 2000 (details will be provided in the application guidance). There will be no special considerations. The estimated amount of this competition will be up to $1,500,000. It is anticipated that two awards will be made.

The amendments above conform to changes made in the Healthy Start program by Title XV of Public Law 106-310. Prospective applicants who have submitted letters of intent or requested application materials have been notified directly of this withdrawal. It is anticipated that applications for all four of these competitions will be available December 21, 2000. The deadline for Letters of Intent will be January 15, 2001. The application deadline is March 1, 2001. The anticipated project award date is June 1, 2001.

Two pre-application conferences are scheduled for these competitions. The first conference will be held on the afternoon of Wednesday, December 13, 2000, from 1:30-4:00 p.m., at the Hyatt Regency Washington on Capitol Hill, 400 New Jersey Avenue, NW, Washington, DC, 20001, (202)737-1234. The second conference will be held on Friday, December 15, 2000, at the Hyatt Regency Dallas at Reunion, 300 Reunion Blvd., Dallas, TX, 75207-4498, (214)651-1234, Fax: (214)742-8126, Website: www.hyatt.com. If you plan to attend either one of these pre-application conferences, please call Shirletia Meredith at (301)443-0543.

FOR FURTHER INFORMATION CONTACT: Angela Hayes Toliver or Beverly Wright at 301-443-0543 (for CFDA #93.926E); Madelyn Renteria or Alexandra Cossi, at 301-443-0543 (for CFDA #93.926K); Janice Berger or John McGovern at, 301-443-8427(for CFDA #93.926L); or David de la Cruz, at 301-443-8427 (for CFDA #93.926N), Division of Perinatal Systems and Women's Health, Maternal and Child Health Bureau, Health Resources and Services Administration, Room 11A-05, Parklawn Building, 5600 Fishers Lane, Rockville, MD 20857; telephone 1-301-443-8427.

Dated: November 29, 2000.
Claude Earl Fox,
Administrator.

[FR Doc. 00-30824 Filed 12-1-00; 8:45 am]

BILLING CODE 4160-15-P